DEPARTMENT OF THE INTERIOR

Bureau of Land Management

[LLORW00000.L10200000.DF0000.18XL1109AF.LXSSH1070000.HAG 18-0120]

Notice of Public Meeting for the John Day—Snake Resource Advisory Council

AGENCY: Bureau of Land Management, Interior.

ACTION: Notice of Public Meeting.

SUMMARY: In accordance with the Federal Land Policy and Management Act of 1976 and the Federal Advisory Committee Act of 1972, the U.S. Department of the Interior, Bureau of Land Management (BLM) John Day—Snake Resource Advisory Council (JDSRAC) will meet as indicated below.

DATES: The JDSRAC will hold a public meeting on Thursday, September 20, 2018, from 12 p.m. to 4:30 p.m. and Friday, September 21, 2018, from 8 a.m. to 12 p.m. A public comment period will be available from 10 a.m. until 10:30 a.m. on September 21, 2018.

ADDRESSES: The JDSRAC meeting will be held at the Malheur National Forest Supervisor's Office at 431 Patterson Bridge Road, John Day, Oregon 97845.

FOR FURTHER INFORMATION CONTACT: Lisa Clark, Public Affairs Officer, 3050 NE 3rd Street, Prineville, Oregon 97754; 541-416-6864; lmclark@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The 15-member JDSRAC was chartered to provide information and advice regarding the use and development of the lands administered by the BLM and Forest Service in central and eastern Oregon. Members represent an array of stakeholder interests in the land and resources from within the local area and statewide.

All meetings are open to the public in their entirety. The JDSRAC meeting agenda includes continuing discussion on the Wallowa-Whitman recreation fee proposal and the Lower Deschutes Wild and Scenic River all user fee proposal, as well as a review of the Lower Deschutes Wild and Scenic River draft business plan, and a discussion regarding the shift from seasonal fees to the need for year-round fees at some sites on the Deschutes National Forest. The Malheur National Forest will present the initiation of an Environmental Impact Statement that will analyze the effects of proposed actions to manage wild horses in the joint Forest Service/Prineville BLM Murderers Creek Wild Horse Joint Management Area.

There will be a public comment period from 10 a.m. to 10:30 a.m. on September 21, 2018. Persons wishing to make comments during the public comment period should register in person with the BLM by 8 a.m. on the meeting day, at the meeting location. Depending on the number of persons wishing to comment, the length of comments may be limited. The public may send written comments to the JDSRAC at BLM Prineville District, Attn. Lisa Clark, 3050 NE 3rd Street, Prineville, Oregon 97754. Before including your address, phone number, email address, or other personal identifying information in your comments, please be aware that your entire comment—including your personal identifying information—may be made publicly available at any time. While you can ask us in your comment to withhold your personal identifying information from public review, we cannot guarantee that we will be able to do so.

Authority: 43 CFR 1784.4-2.

Dennis C. Teitzel,
Prineville District Manager.

[FR Doc. 2018-15446 Filed 7-18-18; 8:45 am]

BILLING CODE 4310-33-P